DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Board of Directors on Sunday, November 5, 2000. The meeting begins at 1 p.m. The letter designations that follow each item mean the following: (I) Is an information item; (A) is an action item; (D) is a discussion item. The General Session includes the following items: (1) Introductions and ITS America Antitrust Policy and Conflict of Interest Statements (I); (2) Review & Approval of August 10, 1999 Board Meeting #31 Minutes; (3) Federal ITS Initiatives Report (I/D); (4) Coordinating Council Report (I/D); (5) State Chapters Council Report (I/D); (6) International Affairs Council & World Congresses Reports (I/D); (7) ITS America Trade Association Report (I); (8) President's Report (External Issues) (I/D); (9) Other Business;

Business Session (U.S. DOT participants excused; Board Members, ITS America Members and Staff Only.) (10) Report to the Executive Committee (I/D); (11) Report of the Nominating Committee (I); (12) President's Report (Internal Issues) (I/D); (13) Other Business. Adjournment until January 11, 2001, 2 p.m. Board of Directors Meeting #37 in Washington, D.C.

ITS AMERICA provides a forum for national discussion and recommendations on ITS activities including programs, research needs, strategic planning, standards, international liaison, and priorities.

The charter for the utilization of ITS AMERICA establishes this organization as an advisory committee under the Federal Advisory Committee Act (FACA) 5 U.S.C. app. 2, when it provides advice or recommendations to DOT officials on ITS policies and programs. (56 FR 9400, March 6, 1991).

DATES: The Board of Directors of ITS AMERICA will meet on Sunday, November 5, 2000, from 1 p.m.-5 p.m. Room TBA.

ADDRESSES: Lingotto Congress Center, Via Nizza, 280, Turin, Italy. Phone: +39-011 2446 911; Fax: +39-011 2446 900.

FOR FURTHER INFORMATION CONTACT: Materials associated with this meeting may be examined at the offices of ITS AMERICA, 400 Virginia Avenue SW, Suite 800, Washington, D.C. 20024. Persons needing further information or who request to speak at this meeting should contact Debbie M. Busch at ITS AMERICA by telephone at (202) 484-2904 or by FAX at (202) 484-3483. The DOT contact is Kristy Frizzell, FHWA, HOIT, Washington, D.C. 20590, (202) 366-9536. Office hours are from 8:30 a.m. to 5 p.m., e.t., Monday through Friday, except for legal holidays.

(23 U.S.C. 315; 49 CFR 1.48)

Issued on: October 5, 2000.
Jeffrey Paniati,
Deputy Director,, ITS Joint Program Office.

[FR Doc. 00-26079 Filed 10-10-00; 8:45 am]

BILLING CODE 4910-22-P